DEPARTMENT OF TRANSPORTATION

Federal Aviation Administration

14 CFR Part 39

[Docket No. 95-NM-202-AD]

RIN 2120-AA64

Airworthiness Directives; Gulfstream G-1159 (G-II), G-1159A (G-III), and G-1159B (G-IIB) Series Airplanes

AGENCY: Federal Aviation Administration, DOT.

ACTION: Proposed rule; withdrawal.

SUMMARY: This action withdraws a notice of proposed rulemaking (NPRM) that proposed a new airworthiness directive (AD), applicable to all Gulfstream G-1159 (G-II), G-1159A (G-III), and G-1159B (G-IIB) series airplanes. That action would have required a one-time inspection to detect corrosion of the material layers of the lower aft fuselage skin in Fuselage Station (FS) 580 bulkhead assembly, and repair, if necessary. The proposal also would have required modification of the aft fuselage area and various follow-on actions. Since the issuance of the NPRM, the Federal Aviation Administration (FAA) has received new data from the manufacturer verifying that all airplanes have accomplished those actions. Accordingly, the proposed rule is withdrawn.

FOR FURTHER INFORMATION CONTACT: Neil Berryman, Aerospace Engineer, Systems and Flight Test Branch, ACE-116A, FAA, Small Airplane Directorate, Atlanta Aircraft Certification, One Crown Center, 1895 Phoenix Boulevard, suite 450, Atlanta, Georgia 30349; telephone (770) 703-6098; fax (770) 703-6097.

SUPPLEMENTARY INFORMATION: A proposal to amend part 39 of the Federal Aviation Regulations (14 CFR part 39) to add a new airworthiness directive (AD), applicable to all Gulfstream G-1159 (G-II), G-1159A (G-III), and G-1159B (G-IIB) series airplanes, was published in the Federal Register as a Notice of Proposed Rulemaking (NPRM) on June 24, 1996 (61 FR 32369). The proposed rule would have required a one-time inspection to detect corrosion of the material layers of the lower aft fuselage skin in Fuselage Station (FS) 580 bulkhead assembly, and repair, if necessary. The proposal also would have required modification of the aft fuselage area and various follow-on actions. That action was prompted by reports of varying levels of corrosion in the structure at FS 580. The proposed actions were intended to prevent the retention of moisture in the fuselage structure, and subsequent corrosion in FS 580 bulkhead assembly, which could result in reduced structural capability of the skin joint and resultant depressurization of the airplane.

Actions That Occurred Since the NPRM Was Issued

Since the issuance of that NPRM, Gulfstream has provided evidence to the FAA that the actions proposed in the NPRM have been accomplished on all affected airplanes. (Evidence was provided to the FAA in Gulfstream's letter of May 30, 2000, which is filed in the Rules Docket.)

FAA's Conclusions

Upon further consideration, the FAA has determined that the unsafe condition no longer exists on the subject airplanes. Accordingly, the proposed rule is hereby withdrawn.

Withdrawal of this notice of proposed rulemaking constitutes only such action, and does not preclude the agency from issuing another notice in the future, nor does it commit the agency to any course of action in the future.

Regulatory Impact

Since this action only withdraws a notice of proposed rulemaking, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, the notice of proposed rulemaking, Docket 95-NM-202-AD, published in the Federal Register on June 24, 1996 (61 FR 32369), is withdrawn.

Issued in Renton, Washington, on June 7, 2000.
Donald L. Riggin,
Acting Manager, Transport Airplane Directorate, Aircraft Certification Service.

[FR Doc. 00-14953 Filed 6-13-00; 8:45 am]

BILLING CODE 4910-13-U